DEPARTMENT OF COMMERCE

National Oceanic and Atmospheric Administration

RIN 0648-XF792

Endangered and Threatened Species; Initiation of a 5-Year Review for the Endangered Western Distinct Population Segment of Steller Sea Lion; Extension of Public Comment Period and Correction

AGENCY: National Marine Fisheries Service (NMFS), National Oceanic and Atmospheric Administration (NOAA), Commerce.

ACTION: Notice of initiation of 5-year review; request for information, extension of public comment period and correction.

SUMMARY: NMFS hereby extends the comment period on the notice of initiation of a 5-year review of the Western Distinct Population Segment (DPS) of Steller sea lion (Eumetopias jubatus) under the Endangered Species Act of 1973, as amended (ESA), and our request for information relevant to that review. We also correct the electronic link provided in the address.

DATES: Comments related to the 5-year review of the western DPS of Steller sea lion must be submitted via the Federal eRulemaking Portal or received at the appropriate address (see ADDRESSES) by April 6, 2018. However, we will continue to accept new information about Steller sea lions at any time.

ADDRESSES: Submit your information or comments by including the FDMS Docket Number NOAA-NMFS-2017-0137, by either of the following methods:

• Federal e-Rulemaking Portal. Go to https://www.regulations.gov/docket?D=NOAA-NMFS-2017-0137, click the “Comment Now!” icon, complete the required fields, and enter or attach your comments.

• Mail: Submit written information to Jon Kurland, Assistant Regional Administrator for Protected Resources, Alaska Region NMFS, Attn: Ellen Sebastian, P.O. Box 21668, Juneau, AK 99802-1668.

Instructions: We may not consider comments if they are sent by any other method, to any other address or individual, or received after the end of the specified period. All comments received are a part of the public record, and we will generally post for public viewing on www.regulations.gov without change. All personal identifying information (e.g., name, address, etc.), confidential business information, or otherwise sensitive or protected information submitted voluntarily by the sender is publicly accessible. We will accept anonymous comments (enter “N/A” in the required fields if you wish to remain anonymous). Attachments to electronic submissions will be accepted in Microsoft Word, Excel, or Adobe PDF file formats only.

FOR FURTHER INFORMATION CONTACT: Dr. Lisa Rotterman, 907-271-1692 or lisa.rotterman@noaa.gov.

SUPPLEMENTARY INFORMATION:

Background

On December 8, 2017 we, NMFS, published a notice in the Federal Register (82 FR 57955) announcing our initiation of a 5-year review of the Western DPS of Steller sea lion under the ESA and requesting information relevant to this review. NMFS received a request to extend the public comment period to provide adequate time for interested parties to research and prepare comments. Based on this request, the comment period for submission of comments and information relevant to this 5-year review is extended to April 6, 2018, as requested, to provide additional opportunity for public comment.

Correction of Address

The electronic link provided in the Federal Register (82 FR 57955) notice for submission of comments via the Federal eRulemaking Portal is not correct. Thus, NMFS provides a new electronic link (https://www.regulations.gov/docket?D=NOAA-NMFS-2017-0137) in the address section above.

Authority: 16 U.S.C. 1531 et seq.

Dated: February 1, 2018.
Angela Somma,
Chief, Endangered Species Division, Office of Protected Resources, National Marine Fisheries Service.

[FR Doc. 2018-02326 Filed 2-5-18; 8:45 am]

BILLING CODE 3510-22-P